CORPORATION FOR NATIONAL AND COMMUNITY SERVICE

Availability of Funds for an Organization To Administer the President's Volunteer Service Awards

AGENCY: Corporation for National and Community Service.

ACTION: Notice of availability of funds and request for proposals.

SUMMARY: The Corporation for National and Community Service (hereinafter “the Corporation”) will enter into a cooperative agreement of up to three years with a single organization selected under this Notice to provide administrative and technical support in the development and implementation of the President's Volunteer Service Awards program. The Corporation seeks an organization that has, or can contract with others to acquire, expertise in marketing and publicity, awards fulfillment, database management, production and distribution of identity items, and event management. Commercial organizations, non-profit organizations, state and local government entities, institutions of higher education and Indian tribal organizations are all eligible to apply. The Executive Director of the President's Council on Service and Civic Participation at the Corporation (hereinafter the “Executive Director”) will oversee the President's Volunteer Service Awards program. The Executive Director will work with the organization selected under this Notice and others to develop strategic partnerships that can build awareness, understanding, and distribution of the Awards.

The Corporation expects to provide approximately $100,000 in year one, and contingent upon performance and availability of funding, to provide up to approximately $250,000 in year two and up to approximately $250,000 in year three to the selected organization for technical and administrative assistance for the President's Volunteer Service Awards program. The selected organization must meet stated financial goals for all years that the cooperative agreement is in effect. Funding beyond year one is contingent upon satisfactory performance on financial and award fulfillment goals and the availability of appropriations for this purpose.

DATES: Proposals must be received by the Corporation by 5 p.m. Eastern time on April 25, 2003. The Corporation will not accept applications that are submitted by facsimile. Due to delays in delivery of regular U.S.P.S. mail to government offices, your application may not arrive in time to be considered. We suggest that you use U.S.P.S. priority mail or a commercial overnight delivery service to make sure that you meet the deadline.

ADDRESSES: Submit proposals to the Corporation at the following address: Corporation for National and Community Service, Attention: Christine Benero, Room 8419, 1201 New York Avenue NW., Washington, DC 20525.

FOR FURTHER INFORMATION CONTACT: Christine Benero at the Corporation, telephone (202) 606-5000, ext. 193, (cbenero@cns.gov), facsimile (202) 575-2784, T.D.D. (202) 565-2799. This Notice, with the complete program application guidelines included, is available on the Corporation's Web site, at: http://www.cns.gov/whatshot/notices.html. Upon request, this information will be made available in alternate formats for people with disabilities.

Dated: March 26, 2003.
Sandy Scott,
Deputy Director, Office of Public Affairs.

[FR Doc. 03-7626 Filed 3-31-03; 8:45 am]

BILLING CODE 6050-$$-P